DEPARTMENT OF COMMERCE

International Trade Administration

(A-570-827)

Notice of Preliminary Results of Antidumping Duty Changed Circumstances Review and Intent to Revoke Order in Part: Certain Cased Pencils from the People's Republic of China

AGENCY: Import Administration, International Trade Administration, Department of Commerce.

SUMMARY: M.A. Notch Corporation (Notch) filed a request for a changed circumstances review of the antidumping duty (AD) order on certain cased pencils from the People's Republic of China (PRC). Specifically, Notch requests that the Department revoke the AD order with respect to a large novelty pencil, which is described below. Certain domestic interested parties have affirmatively expressed a lack of interest in the continuation of the order with respect to this product.¹ In response to the request, the Department initiated a changed circumstances review of the AD order on certain cased pencils from the PRC. Interested parties are invited to comment on these preliminary results.

¹ These domestic interested parties are Sanford Corporation, Musgrave Pencil Company, Rose Moon, Inc., and General Pencil Company, domestic manufacturers of cased pencils, (collectively, the domestic interested parties).

EFFECTIVE DATE: January 3, 2006.

FOR FURTHER INFORMATION CONTACT: Paul Stolz or Charles Riggle, AD/CVD Operations, Office 8, Import Administration, International Trade Administration, U.S. Department of Commerce, 14th Street and Constitution Avenue, NW., Washington, DC 20230; telephone (202) 482-4474 and (202) 482-0650, respectively.

SUPPLEMENTARY INFORMATION:

Background

On April 14, 2005, Notch, a U.S. importer, filed a request asking the Department to revoke the AD order on certain cased pencils from the PRC with respect to a large novelty pencil. See Notch letter to the Secretary, dated April 5, 2005 (Notch Request Letter). Specifically, Notch requests that the Department revoke the AD order with respect to imports of certain cased pencils meeting the following description: novelty jumbo pencil that is octagonal in shape, approximately ten inches long, one inch in diameter, and three-and-one eighth inches in circumference, composed of turned wood encasing one-and-one half inches of sharpened lead on one end and a rubber eraser on the other end. See Notch Request Letter at 1. On May 6, 2005, the domestic interested parties submitted a letter to the Department stating that they “ * * * do not object to exclusion of items meeting the description set forth in the quoted description” (as stated above). On August 22, 2005,² the Department initiated a changed circumstances review. See Notice of Initiation of Antidumping Duty Changed Circumstances Review: Certain Cased Pencils from the People's Republic of China, 70 FR 51336 (August 30, 2005).

² This is the signature date.

On August 25, 2005, we informed all interested parties that comments on the initiation of the changed circumstances review and/or comments with respect to whether the domestic interested parties account for substantially all of the production of the domestic like product, were due 21 days subsequent to publication of the initiation notice in the Federal Register. No interested party submitted comments.

Scope of the Order

Imports covered by this order are shipments of certain cased pencils of any shape or dimension (except as described below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: 1) length: 13.5 or more inches; 2) sheath diameter: not less than one-and-one quarter inches at any point (before sharpening); and 3) core length: not more than 15 percent of the length of the pencil.

Although the HTSUS subheading is provided for convenience and customs purposes, the written description of the scope of the order is dispositive.

Prior Changed Circumstance Rulings

The Department has published the final results of the following changed circumstances reviews to date:

(1) On November 4, 2003 the Department published the final results of a changed circumstances review that excluded from the scope of the order pencils with all of the following physical characteristics: 1) length: 13.5 or more inches; 2) sheath diameter: not less than one-and-one quarter inches at any point (before sharpening); and 3) core length: not more than 15 percent of the length of the pencil. See Notice of Final Results of Antidumping Duty Changed Circumstances Review, and Determination to Revoke Order in Part: Certain Cased Pencils from the People's Republic of China, 68 FR 62428 (November 4, 2003).

(2) On March 27, 2003 the Department published the final results of a changed circumstances review that excluded from the scope of the order pencils produced under U.S. patent number 6,217,242, from paper infused with scents by the means covered in the above-referenced patent, thereby having odors distinct from those that may emanate from pencils lacking the scent infusion. See Notice of Final Results of Antidumping Duty Changed Circumstances Review, and Determination to Revoke Order in Part: Certain Cased Pencils from the People's Republic of China, 68 FR 14942 (March 27, 2003).

Preliminary Results of AD Changed Circumstances Review and Intent to Revoke in Part

Section 751(d)(1) of the Act and section 351.222(g) of the Department's regulations provide that the Department may revoke an AD or countervailing duty order, in whole or in part, after conducting a changed circumstances review and concluding from the available information that changed circumstances sufficient to warrant revocation or termination exist. The Department may conclude that changed circumstances sufficient to warrant revocation (in whole or in part) exist when producers accounting for substantially all of the production of the domestic like product to which the order pertains have expressed a lack of interest in the order, in whole or in part. See section 782(h)(2) of the Act and section 351.222 (g)(1)(I) of the Department's regulations. Based on an affirmative statement by the domestic interested parties, producers of the like product, and the fact that no party has commented otherwise, we find that no interest exists in continuing the AD order with respect to large novelty pencils described in the proposed scope language below. Therefore, we are hereby notifying the public of our preliminary intent to revoke, in part, the AD order on certain cased pencils from the PRC with respect to imports of novelty pencils that meet the description below.

New Scope of the Order

Upon publication of the final results of this changed circumstances review, if there are no changes from the preliminary results, we intend to modify the scope of the AD order to read as follows:

Imports covered by this order are shipments of certain cased pencils of any shape or dimension (except as noted below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: 1) length: 13.5 or more inches; 2) sheath diameter: not less than one-and-one quarter inches at any point (before sharpening); and 3) core length: not more than 15 percent of the length of the pencil.

In addition, pencils with all of the following physical characteristics are excluded from the scope of the order: novelty jumbo pencils that are octagonal in shape, approximately ten inches long, one inch in diameter before sharpening, and three-and-one eighth inches in circumference, composed of turned wood encasing one-and-one half inches of sharpened lead on one end and a rubber eraser on the other end. Although the HTSUS subheading is provided for convenience and customs purposes our written description of the scope of the order is dispositive.

If the final partial revocation occurs, we intend to instruct U.S. Customs and Border Protection (CBP) to liquidate, without regard to applicable antidumping duties, all unliquidated entries of pencils that meet the above-noted exclusion, and to refund any estimated antidumping duties collected on such merchandise entered, or withdrawn from warehouse, for consumption on or after December 1, 2001, the day after the most recent period for which the Department issued assessment instructions to CBP (12/1/2000-11/30/2001), in accordance with section 351.222 of the Department's regulations. We will also instruct CBP to pay interest on such refunds with respect to the subject merchandise entered, or withdrawn from warehouse, for consumption on or after December 1, 2001, in accordance with section 778 of the Act. See Notice of Initiation and Preliminary Results of Changed Circumstances Antidumping Duty Administrative Review, and Intent to Revoke Order in Part: Certain Cut-To-Length Carbon-Quality Steel Plate Products from Japan, 68 FR 1436 (January 10, 2003).

The current cash deposit rate will remain in effect for all entries of subject merchandise until completion of an administrative review.

Public Comment

Interested parties are invited to comment on these preliminary results. Written comments may be submitted by interested parties not later than 14 days after the date of publication of this notice. Parties who submit argument in this proceeding are requested to submit with the argument: (1) a statement of the issue, and (2) a brief summary of the argument. Pursuant to section 351.309(d) of the Department's regulations, rebuttals to written comments, limited to the issues raised in the case briefs, may be filed not later than five days after the deadline for submission of case briefs. Also, interested parties may request a hearing within 30 days of publication of this notice. Any hearing, if requested, may be held no later than two days after the deadline for the submission of rebuttal briefs, or the first workday thereafter. All written comments shall be submitted in accordance with section 351.303 of the Department's regulations and shall be served on all interested parties on the Department's service list. The Department will issue the final results of this review within the time limits established in section 351.216(e) of its regulations.

This notice is published in accordance with section 751(b)(1) of the Act and sections 351.216 and 351.222 of the Department's regulations.

Dated: December 7, 2005.
Stephen J. Claeys,
Deputy Assistant Secretary for Import Administration.

[FR Doc. E5-8213 Filed 12-30-05; 8:45 am]

BILLING CODE 3510-DS-S